FEDERAL RETIREMENT THRIFT INVESTMENT BOARD

Sunshine Act Meeting

TIME AND DATE: 9:00 a.m., January 27, 2014.

PLACE: 10th Floor Board Meeting Room, 77 K Street NE., Washington, DC 20002.

STATUS: Parts will be open to the public and parts closed to the public.

MATTERS TO BE CONSIDERED:

Parts Closed to the Public at 9:00 a.m.

1. Procurement

Parts Open to the Public at 10:00 a.m.

1. Monthly Reports

a. Monthly Participant Activity Report

b. Monthly Investment Policy Report

c. Legislative Report

2. Audit Status

3. Quarterly Vendor Financials

4. Budget Review

5. Annual Expense Ratio Review

CONTACT PERSON FOR MORE INFORMATION: Kimberly Weaver, Director, Office of External Affairs, (202) 942-1640.

Dated: January 14, 2014.
James B. Petrick,
Secretary, Federal Retirement Thrift Investment Board.

[FR Doc. 2014-00959 Filed 1-14-14; 4:15 pm]

BILLING CODE 6760-01-P